DEPARTMENT OF TRANSPORTATION

Federal Aviation Administration

14 CFR Part 39

[Docket No. FAA-2013-0447; Directorate Identifier 2013-NE-17-AD; Amendment 39-17488; AD 2013-10-52]

RIN 2120-AA64

Airworthiness Directives; General Electric Company Turbofan Engines

AGENCY: Federal Aviation Administration (FAA), DOT.

ACTION: Final rule; request for comments.

SUMMARY: We are adopting a new airworthiness directive (AD) for all General Electric Company (GE) GE90-110B1 and GE90-115B turbofan engines. This emergency AD was sent previously to all known U.S. owners and operators of these engines. This AD prohibits operation of an airplane with affected transfer gearbox assemblies (TGBs) installed on both engines five days after the effective date of this AD. This AD was prompted by reports of two failures of TGBs which resulted in in-flight shutdowns (IFSDs). We are issuing this AD to prevent additional IFSDs of one or more engines, loss of thrust control, and damage to the airplane.

DATES: This AD is effective June 26, 2013 to all persons except those persons to whom it was made immediately effective by Emergency AD 2013-10-52, issued on May 16, 2013, which contained the requirements of this amendment.

We must receive comments on this AD by August 12, 2013.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this AD, contact General Electric Company, GE-Aviation, Room 285, 1 Neumann Way, Cincinnati, Ohio 45215; phone: 513-552-3272; email: geae.aoc@ge.com.

Examining the AD Docket

You may examine the AD docket on the Internet at http://www.regulations.gov; or in person at the Docket Operations Office between 9 a.m. and 5 p.m., Monday through Friday, except Federal holidays. The AD docket contains this AD, the regulatory evaluation, any comments received, and other information. The street address for the Docket Operations Office (phone: 800-647-5527) is in the ADDRESSES section. Comments will be available in the AD docket shortly after receipt.

FOR FURTHER INFORMATION CONTACT: Jason Yang, Aerospace Engineer, Engine Certification Office, FAA, Engine & Propeller Directorate, 12 New England Executive Park, Burlington, MA 01803; phone: 781-238-7747; fax: 781-238-7199; email: jason.yang@faa.gov.

SUPPLEMENTARY INFORMATION:

Discussion

On May 16, 2013, we issued Emergency AD 2013-10-52, which prohibits operation of an airplane with affected TGBs installed on both engines five days after receipt of the emergency AD. The emergency AD was sent previously to all known U.S. owners and operators of these GE90-110B1 and GE90-115B turbofan engines. This action was prompted by reports of two failures of TGBs which resulted in IFSDs. Investigation has revealed that the failures were caused by TGB radial gear cracking and separation. Further inspections found two additional radial gears with cracks. This condition, if not corrected, could result in additional IFSDs of one or more engines, loss of thrust control, and damage to the airplane.

Relevant Service Information

We reviewed GE GE90-100 Series Alert Service Bulletin (ASB) No. GE90-100 S/B 72-A0558, Revision 1, dated May 14, 2013, and GE90-100 Series ASB No. GE90-100 S/B 72-A0559, dated May 14, 2013. The ASBs provide additional information regarding the affected TGBs.

FAA's Determination

We are issuing this AD because we evaluated all the relevant information and determined the unsafe condition described previously is likely to exist or develop in other products of the same type design.

AD Requirements

This AD prohibits operation of an airplane with affected TGBs installed on both engines five days after the effective date of this AD.

Interim Action

We consider this AD to be an interim action. We anticipate that further AD action will follow.

FAA's Determination of the Effective Date

An unsafe condition exists that requires the immediate adoption of this AD. The FAA has found that the risk to the flying public justifies waiving notice and comment prior to adoption of this rule because of the five-day compliance time. Therefore, we find that notice and opportunity for prior public comment are impracticable and that good cause exists for making this amendment effective in less than 30 days.

Comments Invited

This AD is a final rule that involves requirements affecting flight safety and was not preceded by notice and an opportunity for public comment. However, we invite you to send any written data, views, or arguments about this AD. Send your comments to an address listed under the ADDRESSES section. Include the docket number FAA-2013-0447 and Directorate Identifier 2013-NE-17-AD at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Costs of Compliance

We estimate that this AD affects 20 engines installed on airplanes of U.S. registry, and because the compliance is only an airplane operation prohibition, the cost of compliance on U.S. operators is $0.

Authority for This Rulemaking

Title 49 of the United States Code specifies the FAA's authority to issue rules on aviation safety. Subtitle I, section 106, describes the authority of the FAA Administrator. Subtitle VII: Aviation Programs describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska to the extent that it justifies making a regulatory distinction, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2013-10-52 General Electric Company: Amendment 39-17488; Docket No. FAA-2013-0447; Directorate Identifier 2013-NE-17-AD.

(a) Effective Date

This airworthiness directive (AD) is effective June 26, 2013 to all persons except those persons to whom it was made immediately effective by Emergency AD 2013-10-52, issued on May 16, 2013, which contained the requirements of this amendment.

(b) Affected ADs

None.

(c) Applicability

General Electric Company (GE) GE90-110B1 and GE90-115B turbofan engines with a transfer gearbox assembly (TGB), part number 2115M33G07 or 2115M33G08, serial number (S/N) listed in Figure 1 to paragraph (c) of this AD, installed.

Figure 1 to Paragraph (c)—Transfer Gearbox Assembly S/Ns
FIA0HYRT | FIA0JGE8 | FIA0J3YC | FIA0JRTW
FIA0HV16 | FIA0JEH2 | FIA0JEH3 | FIA0K4M6
FIA0J31V | FIA0JGE7 | FIA0JAVL | FIA0JN33
FIA0H0R1 | FIA0JLAV | FIA0J70G | FIA0K7TV
FIA0J3YE | FIA0JLAY | FIA0HV18 | FIA0K56H
FIA0J1L0 | FIA0JGFC | FIA0J70E | FIA0K7TY
FIA0J3YF | FIA0JN31 | FIA0JGE9 | FIA0K7TW
FIA0J7FF | FIA0JN3Y | FIA0JLAW | FIA0K4M5
FIA0J5LR | FIA0JGFF | FIA0H0R3 | FIA0K56G
FIA0J7FH | FIA0JN30 | FIA0JGE6 | FIA0JN32
FIA0J7FC | FIA0J7Y9 | FIA0JT56 | FIAAV6M1
FIA0J70A | FIA0JAVM | FIA0JT57 | FIA0K7T1
FIA0J7Y8 | FIA0JGFA | FIA0J7FE | FIAAP6C4
FIA0J7Y7 | FIA0JLAT | FIA0JT6K | FIA0K7T0
FIA0J31W | FIA0JT58 | FIA0JT6L | FIAATMYA
FIA0J70C | FIA0K2H1 | FIA0JLAR | FIA0K56K
FIA0JAVH | FIA0HP4Y | FIA0JRT5 | FIAATH0T
FIA0J7FG | FIA0HV17 | FIA0JRT4 | FIA0K56J
FIA0J70F | FIA0HV19 | FIA0JT6J | FIAAPA8T
FIA0JAVK | FIA0HWG3 | FIA0K2H4 | FIAAVTMA
FIA0JEH4 | FIA0J3YG | FIA0JRTV | FIA0JRTY
FIA0J5LY | FIA0H0R0 | FIA0K2H2 | FIAAR7C0
FIA0J5LT | FIA0HYRV | FIA0K2H3 | FIAARW1V
FIA0J5LW | FIA0H0R2 | FIA0K4M2 | FIA07PAN
FIA0JEH5 | FIA0J1LY | FIA0K4M4 | FIA06VPP
FIA0JAVJ | FIA0J31T | FIA0JT59 | F1A03RR4
FIA0JGE5 | FIA0J1LW | FIA0K2H5 | FIA0JGFE
FIA0JEH6 | FIA0J5LV | FIA0K4M1 | FIA02N6R
FIA0JGEH | FIA0HYRR | FIA0K56L |
FIA0J1LV | FIA0J31R | FIA0K4M3 |

(d) Unsafe Condition

This AD was prompted by reports of two failures of TGBs which resulted in in-flight shutdowns (IFSDs). We are issuing this AD to prevent additional IFSDs of one or more engines, loss of thrust control, and damage to the airplane.

(e) Compliance

(1) Comply with this AD within the compliance time specified, unless already done.

(2) Before further flight, do not operate the airplane if more than one installed engine has a TGB S/N listed in Figure 1 to paragraph (c) of this AD.

(f) Alternative Methods of Compliance (AMOCs)

The Manager, Engine Certification Office, FAA, may approve AMOCs for this AD. Use the procedures found in 14 CFR 39.19 to make your request.

(g) Related Information

(1) For further information about this AD, contact: Jason Yang, Aerospace Engineer, Engine Certification Office, FAA, Engine & Propeller Directorate, 12 New England Executive Park, Burlington, MA 01803; phone: 781-238-7747; fax: 781-238-7199; email: jason.yang@faa.gov.

(2) GE GE90-100 Series Alert Service Bulletin (ASB) No. GE90-100 S/B 72-A0558, Revision 1, dated May 14, 2013, and GE90-100 Series ASB No. GE90-100 S/B 72-A0559, dated May 14, 2013, pertain to the subject of this AD.

(3) For the service information referenced in this AD, contact: General Electric Company, GE-Aviation, Room 285, 1 Neumann Way, Cincinnati, Ohio 45215; phone: 513-552-3272; email: geae.aoc@ge.com.

(4) You may view this service information at the FAA, Engine & Propeller Directorate, 12 New England Executive Park, Burlington, MA. For information on the availability of this material at the FAA, call 781-238-7125.

Issued in Burlington, Massachusetts, on June 13, 2013.
Frank P. Paskiewicz,
Acting Director, Aircraft Certification Service.

[FR Doc. 2013-15001 Filed 6-25-13; 8:45 am]

BILLING CODE 4910-13-P